DEPARTMENT OF JUSTICE

Antitrust Division

Notice Pursuant to the National Cooperative Research and Production Act of 1993—The Open Group, L.L.C.

Notice is hereby given that, on June 16, 2014, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, ALC Group, Kenmore, AUSTRALIA; APISA Alternativas en Productividad Integral, S.A. de C.V., Mexico City, MEXICO; archiSpark sp. z.o.o., Katowice, POLAND; ARTe Group B.V., Maastricht, THE NETHERLANDS; Avionics Interface Technologies, L.L.C., Omaha, NE; AVISTA, Incorporated, Platteville, WI; BCS-Dr. Juergen Pitschke, Dresden, GERMANY; Blue Hawk B&IT Management, Sao Paulo, BRAZIL; Connected Digital Economy Catapult, London, UNITED KINGDOM; EDF Group, Paris, FRANCE; IBISKA Telecom, Inc., Ottawa, CANADA; InProgress sp. z.o.o., Krakow, POLAND; Integrate IT, LLC., Hood River, OR; Interos Solutions, Inc., McLean, VA; JSM Consulting Oy, Lempaala, FINLAND; Pyrrhus Software, L.L.C., Phoenix, AZ; SELEX Galileo, Inc., Arlington, VA; Universidad Politécnica de Victoria, Victoria, MEXICO; and Versatil-I-T Services-Conseils, Inc., Longueuil, CANADA, have been added as parties to this venture.

Also, AITECH Defense Systems, Inc., Chatsworth, CA; Cardiff University School of Computer Science, Cardiff, UNITED KINGDOM; Casewise Systems Ltd., Stamford, CT; Chem National Chemical Corporation, Beijing, PEOPLE'S REPUBLIC OF CHINA; Colorado Technical University, Sioux Falls, SD; Commerzbank AG, London, UNITED KINGDOM; Computaris International Limited, Warsaw, POLAND; Dovel Technologies, Inc., McLean, VA; Georgia Institute of Technology, Atlanta, GA; Marathon Oil Corporation, Houston, TX; Mizuho Information and Research Institute, Inc., Chiba, JAPAN; Qualys Inc., Redwood City, CA; Smart421 Ltd., Ipswich, UNITED KINGDOM; tang-IT Consulting GmbH, Wiesbaden, GERMANY; Transformation By Design Business Consulting Inc., Toronto, CANADA; and Treasury Board of Canada (EASD-CIOB), Ottawa, CANADA, have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on March 21, 2014. A notice was published in the Federal Register pursuant to Section 6(b) of the Act on May 30, 2014 (79 FR 31138).

Patricia A. Brink,
Director of Civil Enforcement, Antitrust Division.

[FR Doc. 2014-15614 Filed 7-2-14; 8:45 am]

BILLING CODE P